OFFICE OF PERSONNEL MANAGEMENT

Submission for OMB Emergency Clearance and 60 Day Notice for Comment for a Reinstatement, With Change, of a Previously Approved Collection: OPM Form 1300, Presidential Management Fellows Program Online Application and Resume Builder

AGENCY: Office of Personnel Management.

ACTION: Notice.

SUMMARY: In accordance with the Paperwork Reduction Act of 1995 (Pub. L. 104-13, May 22, 1995), this notice announces that the Office of Personnel Management (OPM) submitted a request to the Office of Management and Budget (OMB) for emergency clearance and review for a reinstatement, with change, of a previously approved collection for the OPM Form 1300, Presidential Management Fellows (PMF) Program Online Application and Resume Builder. Approval of this request is necessary to facilitate the timely nomination of PMF applicants to the PMF Program. This also serves as the 60 Day Notice for review for full clearance.

As a result of Executive Order 13318 and OPM regulations on the PMF Program issued on May 19, 2005 (70 FR 28775), effective June 20, 2005, eligible graduate students interested in applying to the PMF Program must be nominated by their accredited graduate school's Dean, Chairperson, or Academic Program Director (otherwise referred to as the Nomination Official). In addition, per OMB's approval of the OPM Form 1300 for the PMF Class of 2006 on September 31, 2005, several contingencies were requested. One of those contingencies was for OPM to commit to developing future systems/system changes that would streamline the application process for those seeking Federal jobs.

The following significant changes have been made to the application and nomination process: (1) The PMF Program has recently migrated from an in-house online application and resume builder system to a vacancy announcement approach via USAJOBS; and (2) the nomination process was modified to create a PMF Nomination Form (which OPM proposes to become the new OPM Form 1300), which will serve as a fax-back form for the Nomination Official to fill-out and fax to OPM. Applicants will be directed to a vacancy announcement on USAJOBS and asked to upload their resume. Upon submission of their application, a Nomination Form will generate for the applicant to hand-carry to their school's Nomination Official for possible nomination to the PMF Program. If at any stage the applicant is found ineligible or ultimately not selected as a Finalist, he/she would still have the flexibility to apply to other Federal opportunities on USAJOBS.

We estimate 2,500 to 3,000 applications will be received and processed in the 2006/2007 open season for PMF applications. During the 2005/2006 open season OPM received approximately 2,982 applications, leading to 2,755 nominations by colleges and universities. Using the new OPM Form 1300 (PMF Nomination Form) we estimate Nomination Officials will need one-half hour to receive, review, and render a decision for nomination. The annual estimated burden for Nomination Officials to select nominees is 1,500 hours.

Comments are particularly invited on: Whether this information is necessary for the proper performance of functions on the Office of Personnel Management, and whether it will have practical utility; whether our estimate of the public burden of this collection of information is accurate, and based on valid assumptions and methodology; and ways in which we can minimize the burden of the collection of information on those who are to respond, through the use of appropriate technological collection techniques or other forms of information technology.

For copies of this proposal, contact Mary Beth Smith-Toomey at (202) 606-2150 fax (202) 418-3251, or e-mail to mbtoomey@opm.gov. Please include your complete mailing address with your request.

DATES: Comments on this proposal for emergency review should be received within 10 calendar days from the date of this publication. We are requesting OMB to take action within 5 calendar days from the close of this Federal Register Notice, on the request for emergency review. Comments on this proposal for 60 day review should be received within 60 days from the date of this publication.

ADDRESSES: Send or deliver comments to: U.S. Office of Personnel Management, Presidential Management Fellows Program, ATTN: Rob Timmins, 1900 E Street, NW., Room 1425, Washington, DC 20415; E-mail: pmf@opm.gov; and Brenda Aguilar, OPM Desk Officer, Office of Management and Budget, Office of Information and Regulatory Affairs, New Executive Office Building, NW., Room 10235, Washington, DC 20503.

Office of Personnel Management.
Dan G. Blair,
Deputy Director.

[FR Doc. E6-16437 Filed 10-4-06; 8:45 am]

BILLING CODE 6325-38-P